DEPARTMENT OF TRANSPORTATION

Surface Transportation Board

[STB Docket No. AB-364 (Sub-No. 11X)]

Mid-Michigan Railroad, Inc.—Abandonment Exemption—In Kent and Montcalm Counties, MI

On November 27, 2007, Mid-Michigan Railroad, Inc. (MMRR or petitioner), filed with the Surface Transportation Board a petition under 49 U.S.C. 10502 for exemption from the provisions of 49 U.S.C. 10903 to permit the abandonment of a 24.70-mile rail line located between milepost 103.20 in Lowell and milepost 78.50 in Greenville at the end of the line, in Kent and Montcalm Counties, MI. The line traverses U.S. Postal Service Zip Codes 48809, 48838, 48887, and 49331, and includes the stations of Lowell, Belding, and Greenville.

In addition to an exemption from 49 U.S.C. 10903, MMRR seeks an exemption from 49 U.S.C. 10904 [offer of financial assistance (OFA) procedures]. In support, MMRR states that it has entered a Memorandum of Understanding with the West Michigan Trails and Greenways Coalition (WMTGC) to sell the line to WMTGC for the public purpose of converting it to interim trail use/rail banking. This request will be addressed in the final decision.

MMRR states that, based on information in its possession, the line does not contain federally granted rights-of-way. Any documentation in MMRR's possession will be made available promptly to those requesting it.

The interest of railroad employees will be protected by the conditions set forth in Oregon Short Line R. Co.—Abandonment—Goshen, 360 I.C.C. 91 (1979).

Petitioner believes that the proposed abandonment may generate comments and requests that the Board adopt a procedural schedule in this proceeding to permit MMRR to file rebuttal to any reply received. Rather than address the request at this time, however, the Board will instead allow petitioner to raise the matter again, if it wishes, once comments and replies in response to the petition have actually been filed. Comments and replies to the petition for exemption will be due January 11, 2008. Once comments or replies have been filed, MMRR may request leave to file rebuttal.

By issuance of this notice, the Board is instituting an exemption proceeding pursuant to 49 U.S.C. 10502(b). A final decision will be issued by March 14, 2008, unless the Board grants the requested exemption from the OFA process.

Any OFA under 49 CFR 1152.27(b)(2) will be due no later than 10 days after service of a decision granting the petition for exemption, unless the Board grants the requested exemption from the OFA process. Each OFA must be accompanied by a $1,300 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than January 7, 2008. Each trail use request must be accompanied by a $200 filing fee. See 49 CFR 1002.2(f)(27).

All filings in response to this notice must refer to STB Docket No. AB-364 (Sub-No. 11X) and must be sent to: (1) Surface Transportation Board, 395 E Street, SW., Washington, DC 20423-0001; and (2) Louis E. Gitomer, Law Offices of Louis E. Gitomer, 600 Baltimore Avenue, Suite 301, Towson, MD 21204.

Persons seeking further information concerning abandonment procedures may contact the Board's Office of Public Services at (202) 245-0230 or refer to the full abandonment or discontinuance regulations at 49 CFR part 1152. Questions concerning environmental issues may be directed to the Board's Section of Environmental Analysis (SEA) at (202) 245-0305. [Assistance for the hearing impaired is available through the Federal Information Relay Service (FIRS) at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at http://www.stb.dot.gov.

Decided: December 11, 2007.
By the Board, David M. Konschnik, Director, Office of Proceedings.
Vernon A. Williams,
Secretary.

[FR Doc. E7-24311 Filed 12-14-07; 8:45 am]

BILLING CODE 4915-01-P